DEPARTMENT OF DEFENSE

Office of the Secretary

[Docket ID: DoD-2013-OS-0223]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 31, 2014.

ADDRESSES: You may submit comments, identified by docket number and title, by any of the following methods:

• Federal eRulemaking Portal: http://www.regulations.gov. Follow the instructions for submitting comments.

• Mail: Federal Docket Management Systems Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Department of Defense Education Activity (DoDEA), Office of the Director, ATTN: Martha Brown, Alexandria, VA 22350, or call DoDEA, Office of the Director, at 571-432-9069.

SUPPLEMENTARY INFORMATION:

Title; Associated Form; and OMB Control Number: Assessing Options for CONUS Domestic Dependents Elementary and Secondary Schools (DDESS); OMB Control Number 0704-TBD.

Needs and Uses: The objective of this project is to recommend options that most effectively balance cost and quality considerations for primary and secondary schooling of military dependents on each of the 15 continental United States (CONUS) installations where the Department of Defense currently operates Domestic Dependents Elementary and Secondary Schools (DDESS) or contracts with local educational agencies (LEAs) to operate schools on the installation. As part of the study, we will interview superintendents of LEAs that are in close proximity to installations that have DDESS schools (excluding those installations that only have special arrangement schools). The interviews will capture information on the approach the LEAs will adopt if they were given the responsibility to educate DDESS students, as well as identify factors that might facilitate or hinder LEAs taking the responsibility of educating DDESS students. This information is critical as it will identify whether transferring DDESS schools to LEAs is even a feasible option that could be plausibly considered for the governance of the current CONUS DDESS schools.

Affected Public: Individuals or households.

Annual Burden Hours: 56.

Number of Respondents: 28.

Responses per Respondent: 1.

Average Burden per Response: 120 minutes.

Frequency: Once.

Superintendents of local education agencies (LEAs) that are in the vicinity of the installations where the Department of Defense (DoD) currently operates Domestic Dependents Elementary and Secondary Schools (DDESS), as well as superintendents of LEAs that have contracts with DoD to operate schools at the installations will be interviewed. The interviews will address the type and quality of programs and services they provide to their students, their capacity to expand their student enrollment to include DDESS students, challenges they would face, and considerations they need to take into account. Participation in these interviews is completely voluntary. Information from the interviews will be used by policymakers at the Department of Defense to determine ways to best operate DDESS and contracted schools.

Dated: November 26, 2013.
Aaron Siegel,
Alternate OSD Federal Register Liaison Officer, Department of Defense.

[FR Doc. 2013-28787 Filed 11-29-13; 8:45 am]

BILLING CODE 5001-06-P